DEPARTMENT OF COMMERCE

National Oceanic and Atmospheric Administration

[RTID 0648-XA400]

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council's (Council) Scientific and Statistical Committee (SSC) will hold a meeting.

DATES: The meeting will be held on Tuesday, September 8, 2020, from 12:30 p.m. through 5:30 p.m., and Wednesday, September 9, 2020, from 8:30 a.m. through 1 p.m. See SUPPLEMENTARY INFORMATION for agenda details.

ADDRESSES: The meeting will take place over webinar with a telephone-only connection option. Details on how to connect to the webinar by computer and by telephone will be available at: http://www.mafmc.org/ssc.

Council address: Mid-Atlantic Fishery Management Council, 800 N. State Street, Suite 201, Dover, DE 19901; telephone: (302) 674-2331; website: www.mafmc.org.

FOR FURTHER INFORMATION CONTACT: Christopher M. Moore, Ph.D., Executive Director, Mid-Atlantic Fishery Management Council, telephone: (302) 526-5255.

SUPPLEMENTARY INFORMATION: The purpose of this meeting is to review the most recent survey and fishery data and the previously recommended 2021 ABC for spiny dogfish. The SSC will consider revising the 2021 ABC recommendation and recommend an ABC for the 2022 fishing year utilizing the Council's new risk policy. The SSC will also review the most recent survey and fishery data and the previously recommended 2021 ABC for chub mackerel. The SSC will discuss the possible scientific uncertainty considerations due to missing catch and survey data in 2020 due to COVID-19 restrictions. The SSC will also discuss the science implications and fishery interactions associated with offshore wind development. The SSC will also provide feedback and direction for increased application of the Mid-Atlantic State of the Ecosystem report by the SSC. The SSC will also receive updates on a number of topics, including: The development of a new SSC socioeconomic workgroup, future stock assessment schedule, possible topics for the joint Council/SSC meeting, and research priorities. In addition, the SSC may take up any other business as necessary.

A detailed agenda and background documents will be made available on the Council's website (www.mafmc.org) prior to the meeting.

Special Accommodations

These meetings are physically accessible to people with disabilities. Requests for sign language interpretation or other auxiliary aid should be directed to M. Jan Saunders, (302) 526-5251, at least 5 days prior to the meeting date.

Authority: 16 U.S.C. 1801 et seq.

Dated: August 18, 2020.
Tracey L. Thompson,
Acting Deputy Director, Office of Sustainable Fisheries, National Marine Fisheries Service.

[FR Doc. 2020-18484 Filed 8-21-20; 8:45 am]

BILLING CODE 3510-22-P